DEPARTMENT OF AGRICULTURE

National Agricultural Statistics Service

Notice of Opportunity To Submit Comment on the Public Release Time of Several Major USDA Statistical Reports

AGENCY: National Agricultural Statistics Service and Office of the Chief Economist, Department of Agriculture.

ACTION: Notice and request for stakeholder input.

SUMMARY: The National Agricultural Statistics Service (NASS) and the Office of the Chief Economist are currently accepting stakeholder input on the public release time and procedures of several major USDA statistical reports.

DATES: Comments on this notice must be received by July 9, 2012 to be assured of consideration.

ADDRESSES: Requests must address items listed in comments section below. Please submit comments via the Internet at https://www.agcounts.usda.gov/optin/136771, or via mail to: USDA-NASS, Agricultural Statistics Board Chair, 1400 Independence Ave. SW., Room 5029, Washington, DC 20250.

If you have any questions, send an email to HQASBDeputy@nass.usda.gov or call 1-800-727-9540.

FOR FURTHER INFORMATION CONTACT: Joseph T. Reilly, Associate Administrator, National Agricultural Statistics Service, U.S. Department of Agriculture, (202) 720-4333, Fax: 202-720-9013, or email: HQ_OA@nass.usda.gov.

SUPPLEMENTARY INFORMATION: USDA's National Agricultural Statistics Service and the Office of the Chief Economist are seeking comments on the release time of several of their major statistical reports. USDA statistical report release times are affected for the following reports: “World Agricultural Supply and Demand Estimates”, “Acreage”, “Cattle”, “Cattle on Feed”, “Crop Production”, “Grain Stocks”, “Prospective Plantings”, “Quarterly Hogs and Pigs”, and “Small Grain Summary”. The current release times of 8:30 a.m. and 3 p.m. ET will remain unchanged until official comments are considered. Under the Freedom of Information Act (FOIA) and the Office of Management and Budget (OMB) Statistical Policy Directives 3 and 4, rules are in place to regulate the public's access to federally generated statistics. With nearly round-the-clock commodities trading in the United States now underway, the agencies want to hear from all parties who use federal agricultural statistics so that we best meet their needs while upholding our responsibility to provide equal access to data. The agencies will carefully consider all input on the time of report releases. The 2012 official published schedule for all NASS reports is available online at www.nass.usda.gov/Publications/index.asp. The World Agricultural Outlook Board (WAOB) report schedule is available at www.usda.gov/oce/commodity/wasde.

Comments: Please address the following questions when submitting your comments:

1. What is your preferred time of day (EDT) for report release?

2. Why is this time preferred?

3. Who are the data users impacted by this recommended time change?

4. How will this change impact these data users?

5. How are the data used when received at the current release time?

6. Other comments.

All responses to this notice will become a matter of public record and be summarized and considered by NASS and the Office of the Chief Economist in preparing any recommendation(s).

Signed at Washington, DC, May 24, 2012.
Joseph T. Reilly,
Associate Administrator.

[FR Doc. 2012-13951 Filed 6-7-12; 8:45 am]

BILLING CODE 3410-20-P